DEPARTMENT OF JUSTICE

[OMB Number 1125-NEW]

Agency Information Collection Activities; Proposed eCollection; eComments Requested; Notice of Motion To Reconsider/Reopen a Decision by the Board of Immigration Appeals From an Initial Decision of a DHS Officer (EOIR-29A)

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until September 23, 2024.

FOR FURTHER INFORMATION CONTACT: If you have additional comments especially on the estimated public burden or associated response time, suggestions, or need a copy of the proposed information collection instrument with instructions or additional information, please contact EOIR's Office of the General Counsel, Executive Office for Immigration Review, Raechel Horowitz, Chief, Immigration Law Division, Office of Policy, 5107 Leesburg Pike, Suite 2500, Falls Church, VA 22041, (703) 305-0473, Raechel.horowitz@usdoj.gov or eoir.pra.comments@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: A party may file a motion to reopen and/or reconsider a decision by the Board of Immigration Appeals (BIA or Board) in a case which was initially adjudicated by a Department of Homeland Security (DHS) Officer. See 8 CFR 1003.2(b), 1003.2(c)(1). The party must complete this new form and submit it to the DHS office having administrative control over the record of proceeding in order to file a motion to reopen and/or reconsider these Board decisions. EOIR developed the new Form EOIR-29A to elicit, in a uniform manner, all of the required information for the BIA to process a motion to reopen and/or reconsider upon receipt from DHS. The form collects the following information: name and mailing address of beneficiary, petitioner, applicant, carrier, and/or individual; alien registration number (A-number); receipt number; and fine number. The form also requires the respondent to identify the type of motion being filed (motion to reopen, motion to reconsider, or both) and date of the Board decision subject to reconsideration or reopening. Respondents must attach to the form any written motion and supporting documents. Finally, form respondents must sign and date the form.

Overview of This Information Collection

1. Type of Information Collection: New Information Collection.

2. The Title of the Form/Collection: Notice of Motion to Reconsider/Reopen a Decision by the Board of Immigration Appeals from an Initial Decision of a DHS Officer.

3. The agency form number, if any, and the applicable component of the Department sponsoring the collection: The agency form number will be Form EOIR-29A. The applicable component within the Department of Justice is the Executive Office for Immigration Review.

4. Affected public who will be asked or required to respond, as well as the obligation to respond: Individuals or Households. The obligation to respond is required to obtain/retain a benefit (motion to reopen and/or reconsider).

5. An estimate of the total number of respondents and the amount of time estimated for an average respondent to respond: The estimated annual number of respondents for the Form EOIR-29A is 764. The estimated time per response is 30 minutes.

6. An estimate of the total annual burden (in hours) associated with the collection: The total annual burden hours for this collection is 382 hours.

7. An estimate of the total annual cost burden associated with the collection, if applicable: There are no capital or start-up costs associated with this information collection. The estimated public cost is zero.

Total Burden Hours
Activity | Number of respondents | Frequency | Total annual responses | Time per response | Total annual burden (hours)
Form EOIR-29 | 764 | 1/annually | 764 | 30 minutes | 382
Unduplicated Totals | 764 |  | 764 |  | 382

If additional information is required contact: Darwin Arceo, Department Clearance Officer, United States Department of Justice, Justice Management Division, Policy and Planning Staff, Two Constitution Square, 145 N Street NE, 4W-218, Washington, DC.

Dated: July 18, 2024.
Darwin Arceo,
Department Clearance Officer for PRA, U.S. Department of Justice.

[FR Doc. 2024-16130 Filed 7-22-24; 8:45 am]

BILLING CODE 4410-30-P